ENVIRONMENTAL PROTECTION AGENCY

[FRL-7138-4]

Notice of National Environmental Information Exchange Network Grant Guidelines

AGENCY: Environmental Protection Agency.

ACTION: Notice of solicitation of applications.

SUMMARY: The Environmental Protection Agency (EPA) announces that the National Environmental Information Exchange Network Grant Program is now soliciting applications for the Program. The goal of the National Environmental Information Exchange Grant Program is to advance the National Environmental Information Exchange Network by encouraging State and other partner's data integration efforts. Funding will be provided through grants to States, the District of Columbia, Trust Territories, and Federally Recognized Indian Tribes for capacity building capabilities for Network participation. Tribes will receive funds from a designated set-aside pool of resources.

DATES: Applications must be received or postmarked not later than April 1, 2002.

ADDRESSES: These guidelines are final, however, comments and questions may be directed to Grant Program e-mail: neengprg@epamail.epa.gov. Hard copies of all referenced documents may be obtained by contacting the appropriate regional contact (see Section VI).

FOR FURTHER INFORMATION CONTACT: Lyn Burger, U.S. E.P.A., Office of Environmental Information, Mail Code 2812, 1200 Pennsylvania Avenue, NW, Washington, DC 20460; Phone (202) 564-0200; e-mail: neengprg@epamail.epa.gov. For additional information, please visit the Grant Program Web site at: www.epa.gov/neengprg.

Dated: February 1, 2002.
Kimberly T. Nelson,
Assistant Administrator, Office of Environmental Information.

FY2002 National Environmental Information Exchange Network Grant Program

Section I. Background

Information is fundamental to the work of environmental protection. Environmental decision makers at all levels need timely and high quality environmental information to make informed decisions. Yet, many of the current systems and approaches to information exchange are not designed to meet those needs. The U.S. Environmental Protection Agency (EPA), through work with the Environmental Council of the States, has developed a new vision for exchanging environmental data that, when fully established, will help meet those needs. The National Environmental Information Exchange Network (Network) is a major component of the solution envisioned by EPA.

The Network utilizes technologies and approaches that help create E-commerce and will provide an alternative to the current approach of exchanging data. These data exchanges will replace and complement the traditional approach to information exchange that currently relies upon data being processed directly to multiple EPA national data systems. Network participants will house information on their own nodes or portals where it will be available upon authorized request. The Network is described in detail in a Blueprint document developed by States and the EPA. The Blueprint document can be accessed at: www.epa.gov/oei/imwg.

The FY2002 appropriations to EPA include $25 million in grants that will be used to advance States, the District of Columbia, American Samoa, Guam, the Northern Mariana Islands, Puerto Rico, the U.S. Virgin Islands (referred to as States from here on) and Federally recognized Indian Tribes (referred to as Tribes from here on) readiness to participate on the Network. EPA will set-aside $2.5 million for Tribes.

Section II. Network Grant Components

The appropriation funds the Network Grant Program for the 2002 fiscal year only. States and Tribes have expressed the concern that uncertainty regarding the continuation of the Network Grant Program makes it difficult to integrate the program into their planning process, or to take on longer term projects. In order to partially address those concerns, EPA is committed to running the Network grant program in substantially the same manner, if funds are appropriated, for the first two years (FY 2002—2003). Some modifications may be required to address changes in funding levels, or to enhance the administration of the program.

The Network Grant Program has four main parts which are:

1. Network One Stop

2. Network Readiness

3. Network Challenge

4. Network Administration

There are no matching requirements for any part of the Grant Program.

Section III. Guidance for Applicants

This section describes the application process for each part of the Grant Program.

Part 1—describes general requirements that apply to each part of the Grant Program.

Part 2—describes the eligibility, availability and use of funds and the particular requirements for submitting applications for Network One Stop Grants.

Part 3—describes the eligibility, availability and use of funds and the particular requirements for submitting applications for Network Readiness Grants.

Part 4—describes the eligibility, availability and use of funds, and the particular requirements for submitting applications for Network Challenge Grants.

Part 5—describes the eligibility, availability and use of funds, and the particular requirements for submitting applications for Network Administration Grants.

Part 1: General Requirements and Assistance

Eligible entities must designate a single lead agency that will have overall responsibility for developing the grant proposal, submitting the grant application, and managing grant funds. The lead agency may award sub-grants, contracts, and establish intra-governmental agreements as necessary with other agencies to implement their work plan. States and Tribes may change the lead agency from one grant cycle to the next. However, the lead agency designated for a particular grant cycle must continue to report on the projects funded in that cycle until they are completed. Along with their grant proposals applicants must also submit:

1. Federal Grant Forms—Federal Standard Forms 424 and 424A. SF 424: Application for Federal Assistance, the official form required for all federal grants, requests basic information about the grantee and the proposed project. SF 424A requests budget information on the proposed project. For an electronic copy of these forms go to www.epa.gov/neengprg.

2. Confidential Information—Applicants should clearly mark information in their grant proposals that they consider to be confidential. EPA will make final confidentiality decisions in accordance with 40 CFR 2, subpart B.

3. Pre-application Assistance—Applicants seeking assistance on developing any of the grants should contact the appropriate regional or headquarters contact. (See Section V for contacts).

4. Submission of Multiple Grant Applications—States and Tribes submitting Network One Stop, Network Readiness and/or Network Challenge applications may submit applications at the same time.

5. Lead Agency—The Lead Agency (e.g., an agency with delegation for environment, natural resources, health, agriculture, etc.) designated by the eligible entity must submit a single application. States and Tribes may work together to submit a Challenge grant but a Lead State Agency or Lead Tribe must be identified within the application.

6. A clear definition of project goals and measures—Clearly describe the goal(s) of the project, describe in detail the measures to be used to evaluate the success of the project, and the plan for reporting results based on the measures. If a Quality Assurance Plan (QAP) exists for data flows being proposed with the application, a copy of this plan must be included with the application. If a QAP does not exist, grant recipients must work with the respective Regional or HQ Project Officer as well as the Regional or HQ Quality Assurance Manager to develop and implement a quality assurance project plan that is acceptable to all parties before federal funds will be released. Recipients may (though it is not required) use the template developed for technology grants. A copy of the template can be found at the Network Grants Web site www.epa.gov/neengprg.

7. Funding Vehicle Preference—The grant proposal should indicate whether the applicant prefers receiving grant funds as part of an existing Performance Partnership Grant (PPG), or as a separate grant. If a grant recipient chooses to add funds to a Performance Partnership Grant (PPG), the Network grant work plan commitments must also be included in the PPG work plan and the Performance Partnership Agreement work plan negotiated with EPA HQ and Regions.

8. Page Limitations—Proposals for Network One Stop Grants should be no more than 15-20 pages in length. Proposals for Network Readiness Grants should be no more than 5-10 pages in length. Proposals for Network Challenge Grant should be no more than 10-15 pages in length. Supporting materials may be submitted along with the proposal and will not be counted against the page limitations. However, applicants should ensure that they adequately describe the project they plan to undertake within the page limitation guidelines and do not depend upon supporting materials for this purpose. Proposals should be submitted using a 12 point font or larger and in a format that is compatible with WordPerfect 8.0 or in a PDF format.

9. Submission Requirements and Schedule—If applications and proposals are submitted in a paper format, eligible entities must submit two copies of the Grant Application to the appropriate regional contact, and two copies to the EPA headquarters contact. Electronic versions of application and proposals may be sent via e-mail to: neengprg@epamail.gov. Applications for All Parts of the Grant Must Be Received or Postmarked Not Later Than April 1, 2002.

Part 2: Network One Stop Grants—Eligibility and Availability of Funds, Use of Funds, Particular Requirements for Submitting Applications and Criteria

Eligibility and Availability of Funds

All States and Tribes that have not previously received a One Stop Grant (i.e., VT, CT, KY, TN, AR, AL, KS, IA, ND, SD, WY, CO, ID, NV, AK, HI, District of Columbia, American Samoa, Guam, the Northern Mariana Islands, Puerto Rico, U.S. Virgin Islands, and all Tribes) may apply for a One Stop Grant. States are eligible to receive a maximum of $500,000. Tribes are eligible to receive a maximum of $100,000 from the Tribal set-aside funds.

Note: A State or Tribe that has not received a Network One Stop Grant may apply for a Network Readiness and/or Network One Stop Grant, but may only be awarded funding from one category. A State or Tribe that has not previously received a Network One Stop Grant and receives funding for a Network Readiness Grant in 2002 will be eligible to apply for a Network One Stop Grant in the second year of the program (pending receipt of appropriations for the program).

Use of Funds

These grants are intended for the purpose of continuing EPA's commitment to offer funding under the One Stop Reporting Partnership Program through 2003. These grant funds are intended to support the broader goals of the One Stop program which are to (1) reduce the reporting burden on industry, States, and local governments; (2) foster multimedia (air, water, waste) and geographic approaches to problem solving; and (3) provide the public with meaningful, real-time access to environmental data.

Particular Requirements

To receive a grant, each State/Tribe must submit a 15-20 page proposal. The proposal should address State/Tribal plans and activities that demonstrate the following:

1. Senior State/Tribal Leadership (Deputy Commissioner, Commissioner, Chief Information Officer, or Governor) willingness to establish clear accountability for environmental reporting reforms and to participate with EPA and other One Stop States in documenting and communicating the results of the grant.

2. A commitment to accomplishing burden reduction, data integration and public access, as indicated by the level of investment in and capacity for environmental data management.

3. Readiness for full-scale implementation of programs to work toward established objectives, as indicated by accomplishments and planned activities:

Integrating State/Tribal/EPA data management. EPA will give special attention to proposals that address the State capacity and readiness to implement the cornerstone of integrating environmental data, the facility identifier. This approach is compatible with EPA's Facility Identification data standard, which was finalized in November 2000. Integration of environmental data at the facility level is the primary thrust of the Facility Identification Template for States (FITS2) dated February 2000 and sponsored by ECOS and the EPA. (www.sso.org/ecos/projects)

Capitalizing on burden reduction opportunities. The measures that EPA is adopting to reduce reporting burden typically require State action to actually achieve the reductions. States/Tribes are not required to immediately and unconditionally implement these policies as a condition for receiving a grant; however, States/Tribes are expected to demonstrate a credible effort to adopt these or other measures for reducing reporting burden as part of their overall reforms.

Employing an inclusive stakeholder process to design and implement reporting and data management reforms. EPA will not specify the form of the stakeholder process or specify requirements for representation. However, it is expected that States/Tribes will devise ways to ensure that local government, industry, environmental and other public interest groups, and the general public have an opportunity to participate in environmental reporting reforms.

Enhancing electronic reporting, with the long term goal of achieving universal access to electronic reporting for the regulated community.

Enhancing public access to environmental performance data, including data from sources, data about regulator performance, and data on environmental status and trends.

Network Transition, including the intent of adopting and adapting longer term efforts to participate on the Network.

A State or Tribe grant proposal must also specify a commitment to produce the major deliverable of the grant which is a comprehensive three to five-year plan to reform environmental reporting and data management. In the past, the plan has been referred to as a 120-Day Plan, since each state awarded a grant was required to submit the plan 120 days following their baseline visit. The baseline visit was an on-site visit by EPA's information technology experts (staff and consultants) that gave the state's leadership a snapshot of their agency's information opportunities and challenges.

EPA will continue to offer this assistance to each State/Tribe awarded a One Stop grant and this plan must be submitted within 120 days of the beginning of the award. EPA agrees to participate with the State/Tribe in developing this plan by ensuring the availability of key Agency staff and managers, by providing expert technical support including contractor assistance if required, and by giving prompt attention to State/Tribal requests for policy clarifications and decisions. The State/Tribe may begin implementation of its work program and expend funds received through this grant during the period in which this plan is being developed.

The plan will include:

a. A statement of State/Tribe goals and objectives for environmental reporting and data management for a three-to-five year period;.

b. A description of major outputs over the term of the program plan, projected dates for each major output, and assignment of responsibility for each project output;

c. A list of key program participants and a description of their roles;

d. An approach for tracking program progress and measuring success period.

Criteria and Selecting Proposals

The Network One Stop grants are intended to stimulate a partnership with applicants who have decided to undertake a comprehensive re-engineering of their information management process in order to reduce the burden of environmental reporting on the regulated community, integrate agency data and data management processes across program and organizational lines, and improve public access to environmental information.

EPA will focus on (1) the applicant's commitment to accomplishing the above goals as indicated by their level of investment in and capacity for environmental data management; (2) the applicant's readiness for full-scale implementation of programs to accomplish the above goals over the long term, specifically including standards for identifying and locating regulated facilities across all programs; (3) applicants' commitment to produce a comprehensive three to five-year plan to reform environmental reporting and data management which clearly identifies the intent to adapt longer term efforts toward participation on the Network; and (4) Senior Leadership commitment.

EPA's Office of Environmental Information (OEI) will form a proposal review panel consisting of representatives from OEI, EPA's American Indian Environmental Office (AEIO), and EPA's Regional Offices. The panel members will separately review and then discuss each proposal. OEI will make final selections based on panel recommendations and feedback on project proposals from Regional Offices. Regional Program Offices will award and manage these grants.

Part 3: Network Readiness Grants—Eligibility and Availability of Funds, Use of Funds, Particular Requirements for Submitting Applications and Criteria

Eligibility and Availability of Funds

All States and Tribes may apply for a Network Readiness Grant. States are eligible to receive a maximum of $400,000 for a grant. Tribes are eligible to receive a maximum of $100,000 for a grant from the Tribal set-aside funds.

Use of Funds

These grants are intended to assist States and Tribes to build upon their readiness that would address their priority internal information technology investments while constructing initial linkages to the Network. These grants must be used for work that advances the quality and availability of environmental data, and that produces a material advancement in one or more of the Network's components (Trading Partner Agreements, Data Standards, Data Exchange Templates, technical infrastructure, etc.). Each applicant will provide a proposal that addresses their commitment to participate on the Network and the actual development of a node or portal on the Network.

Particular Requirements

An applicant must produce a comprehensive three-year transition plan that addresses critical steps and milestones that will demonstrate their commitment to participate on the Network. Ideally, the State/Tribe transition plan would align with EPA's Central Data Exchange (CDX) data flow priorities. While States/Tribes are not restricted to proposed CDX data flows, they are strongly encouraged to align their proposals with EPA's proposed schedule. For the most current information on CDX flow priorities and status, please refer to the CDX Web site: www.epa.gov/cdx/priority.

The transition plan must clearly identify which core capacity building functions, based on the list below, the applicant plans to undertake and complete:

1. Establish an official information source and steward. The establishment will enhance the capacity to identify and manage an official, high quality data source (e.g., at least one source of data in a mature stage of production that is used for agency business, reconciled data across multiple sources using supported keys/linkages, and/or at least one source of data that would likely be used within the Network).

2. Develop technical infrastructure for Internet node operation that will enhance the technical infrastructure and capabilities needed to support node operation (e.g., web server hardware in production, management of a relational database, IT personnel available to develop, establish, and support State node projects).

3. Connection of information resources to the node which will extend the range of data sharing, data access, data integration and decisions tools to partners on the Network and/or stakeholders in need of access to the information resources.

4. Node implementation which will establish the agency's single management point for providing its information to the Network.

5. Node/TPA Management which will enhance the overall management capacity to be a participant on the Network, to execute data exchanges, Trading Partner Agreements, manage and operate on the Network with adequate and appropriate security protocols and/or conduct strategic information and architecture planning.

Eligible activities, which support one or more of the above listed functions, could be, but are not necessarily limited to:

Technical Infrastructure Capacity—servers, processors, storage devices and storage media, telecommunications products and services, computer peripherals and other capital expenditure items necessary to assist in the building of or acquiring of the necessary technical architecture or infrastructure to be part of and a participant on the Network. This includes Internet services that assist an organization to participate on the Network; security products and services necessary to safeguard data access on the Internet and Network; and additional products and services such as Global Positioning System units when used to promote improved values for environmental information that will assist in the management of environmental programs or Network activities.

Systems Development—consultant services, software design, development, operations or evaluation services for database management, services for application development and operations, product purchases or development services and activities that assist in providing the capability to format, store, transform, transmit, manipulate, reconcile and/or improve the quality of data that might be available to the Network. These services, products, and development activities can include functions that support: central data exchange services, database management systems, data registries, data integration systems and applications, data access activities and applications that support the Network.

Management Capabilities—consultation services, technical architecture planning and implementation support activities that promote Network participation. These services include: development and implementation of EPA adopted data standards, trading partner agreements, data format design templates and schemas, strategic planning, technical architecture planning and implementation support activities that promote Network participation.

Criteria and Selecting Proposals

EPA will evaluate the proposals on how they best address critical steps and milestones that will be taken over the next three years that demonstrate commitment for participation on the Network. Actions that demonstrate a commitment to participate on the Network include (1)Establish an official information source and steward; (2) Develop technical infrastructure for Internet node operation; (3) Connection of information resources to a node; (4)Node implementation for providing information to the Network; (5) Node/Trading Partner Agreement and management.

OEI will form a proposal review panel consisting of representatives from OEI, AEIO, and EPA's Regional Offices. The panel members will separately review and then discuss each proposal. OEI will make final selections based on panel recommendations and feedback on project proposals from Regional Offices. Regional Program Offices will award and manage these grants.

Part 4: Network Challenge Grants—Eligibility and Availability of Funds, Use of Funds, Particular Requirements for Submitting Applications, and Criteria

Eligibility and Availability of Funds

All States and Tribes may apply for Challenge Grants. States are eligible to receive a maximum of $1,000,000 for a grant. Tribes are eligible to receive a maximum of $300,000 grant from the Tribal set-aside funds.

Use of Funds

Challenge grants will support single State/Tribe or multi-State/Tribe collaborative efforts to advance the Network's development and implementation and create benefits for multiple States/Tribes. Examples of collaborative efforts in the past include the Network Node Pilot Project from the States of Nebraska, New Hampshire, Delaware, and Utah and the Facility Identification Template for States (FITS) developed and built upon the practical experience of the States of Washington, New Jersey, Pennsylvania, Mississippi, and Massachusetts. Additional examples might include an IntraState data integration effort among the Environmental Protection, Health, and Natural Resources Departments within a State/Tribe, an IntraState or Tribal collaboration on reporting environmental requirements to CDX, or an Industry to State/Tribe data transfer effort.

Particular Requirements

An applicant must produce a comprehensive proposal that addresses the following:

1. Critical steps and milestones for the project that will be undertaken and demonstrate commitment to actual development of the project. The project may be media-specific or multi-media in nature.

2. Explanation of why the proposed project would benefit the Network and data integration. Explain the potential for other States/Tribes to collaborate and learn from the success of the project and the broad applicability for participation in the Network.

3. Clear definition of project goals and measures. Clearly describe the goal(s) of the project, describe in detail the measures used to evaluate the success of the project, and the plan for reporting results based on the measures. The goal(s) should be stated in terms of the State/Tribe efforts, and the measures should emphasize results and outcomes to be achieved, not just activities or outputs produced.

4. Clear and detailed description of the strategy. Clearly describe the strategy and how it will address the project identified. The strategy should demonstrate innovative and creative solutions to Network exchanges and should specify the tools or actions to be used, the schedule for implementing the project, the agencies/entities involved in implementing the strategies and their respective roles, and other resources leveraged to address the problem.

Criteria and Selecting Proposals

EPA will evaluate proposals on their feasibility, and on their potential to make a contribution to nationwide Network capacity. The proposals should clearly address how the project would (1) advance the functionality of the Network through the immediate flow of higher quality environmental data; (2) create a model that would be easily implemented, have broad applicability, and would be readily transferable to a wide group of Network participants; (3) achieve a reduction in reporting and accessing burden; (4) provide increased public access to environmental data; and (5) involve collaboration throughout the project.

OEI will form a proposal review panel consisting of representatives from OEI, AEIO, EPA's Regional Offices and technology experts (federal staff and/or consultants). OEI will make final selections based on panel recommendations and feedback on project proposals. OEI will manage and award these grants.

Part 5: Network Administration Grants—Eligibility and Availability of Funds, Use of Funds, Particular Requirements for submitting applications and Criteria.

Eligibility and Availability of Funds

Network Administration funds will support technical and administrative functions of the Network for States and Tribes and will total $1,500,000.

Particular Requirements

EPA will announce requirements for submitting requests for Network Administration Grant Funds later this year.

Section IV. Awarding of Grants

States and Tribes that are selected to receive both a Network One Stop or Network Readiness Grant and a Network Challenge grant may receive the combined grant funds in a single award. However, if a State or Tribe elects to receive the combined grant funds in a single award, it will have to wait until the Network Challenge grant selections are made to be awarded funds. EPA will award to those States and Tribes that only apply for the Network One Stop or Network Readiness Grants funds after final selections are made.

Funds that States or Tribes do not apply for, or ultimately qualify for, under the Network One Stop Grant or the Network Challenge Grant, will be made available through the Network Readiness Grants. EPA reserves the right to reject any application or proposal. For questions concerning grant award decisions please refer to the contact information in Section VI.

Section V. Post Award Requirements

Grant recipients must submit a copy of the semiannual program report to the regional grant manager and the headquarters contact. At a minimum, program reports will include:

—an update on the schedule and status of the implementation of the project, including any implementation problems encountered and suggestions to overcome them;

—an explanation of expenditures to date, and unless the grant is included in the PPG (40 CFR part 35.530(b) and 40 CFR part 35.130(b)), expenditures linked to project results;

—an assessment of progress in meeting project goals, including output and outcome measures when available.

Section VI. Authority & Applicable Regulations

—H.R. 2620, FY 2002 VA-HUD and Independent Agencies Appropriations Bill

—Catalog of Federal Domestic Assistance: 66.608

—Delegation of Authority: 1-47

—40 CFR part 31 and 40 CFR part 35, subpart A and subpart B apply to this grant program.

Section VII. Points of Contact

Headquarters Contact—Lyn Burger, Office of Environmental Information, 5315A Ariel Rios Building, Washington, DC 20460, Phone, 202-564-0200, FAX, 202-501-1718, e-mail: neengprg@epamail.epa.gov.

Regional Contacts

EPA Region I

Mike MacDougall, US EPA Region I, 1 Congress Street, Suite 1100 (RSP), Boston, MA 02114, (617) 918-1941, macdougall.mike@epa.gov.

EPA Region II

Robert Simpson, US EPA Region II, 290 Broadway, New York, NY 10007-1866, (212) 637-3335, simpson.robert@epa.gov.

EPA Region III

Joseph Kunz, US EPA Region III, 1650 Arch Street, Philadelphia, PA 19103, (215) 814-2116, (215) 814-5251 Fax, kunz.joe@epa.gov.

EPA Region IV

Rebecca Kemp, US EPA Region IV, 61 Forsyth Street, Atlanta, GA 30303, (404) 562-8027, kemp.rebecca@epa.gov.

EPA Region V

Noel Kohl, US EPA Region V, Resource Management Division, 77 W. Jackson Boulevard, Chicago, IL 60604, (312) 886-6224, kohl.noel@epa.gov.

EPA Region VI

Dorian Reines, US EPA Region VI, 1445 Ross Ave., Dallas, TX 75202, (214) 665-6542 reines.dorian@epa.gov.

EPA Region VII

Maryane Tremaine, US EPA Region VII, 901 N. Fifth Street, Kansas City, KS 66101, (913) 551-7430, tremaine.maryane@epa.gov.

EPA Region VIII

Josie Lopez, USEPA Region VIII, 999 18th Street, Suite 500, Denver, CO 80202-2466, (303) 312-7079, lopez.josie@epa.gov.

EPA Region XI

Jean Circiello, US EPA Region IX, 75 Hawthorne Street-Mail Stop SPE-1, San Francisco, CA 94105, (415) 947-4268, circiello.jean@epa.gov.

EPA Region X

Jon Schweiss, 1200 6th Avenue, Seattle, WA 98101, (206) 553-1690, cheweiss.jon@epa.gov.

Web site information— www.epa.gov/neengprg.

[FR Doc. 02-2978 Filed 2-8-02; 8:45 am]

BILLING CODE 6560-50-P